DEPARTMENT OF TRANSPORTATION

Federal Highway Administration

Environmental Assessment; Pulaski County, KY

AGENCY: Federal Highway Administration (FHWA), DOT.

ACTION: Notice of intent.

SUMMARY: The FHWA is issuing this notice to advise the public of its intent to prepare an Environmental Assessment (EA) for a proposed highway project in the south-central portion of Kentucky, between the Louis B. Nunn Parkway (Cumberland Parkway) at Fishing Creek to Ky 80 east of Somerset.

FOR FURTHER INFORMATION CONTACT: Evan J. Wisniewski, Project Development Team Leader, Federal Highway Administration, 330 West Broadway, Frankfort, Kentucky, 40601, (502) 223-6740, e-mail: evan.wisniewski@fhwa.dot.gov; or David Beattie, Project Manager, Kentucky Transportation Cabinet, District XX, P.O. Box 780, Somerset, Kentucky, 40502, (606) 677-4017, e-mail david.beattie@mail.state.ky.us.

SUPPLEMENTARY INFORMATION:

Electronic Access

An electronic copy of this document may be downloaded by using a computer, modem and suitable communications software from the Government Printing Office's Electronic Bulletin Board Service at (202) 512-1661. Internet users may reach the Office of the Federal Register's home page at http://www.nara.gov/fedreg and the Government Printing Office's Web page at http://www.access.gpo.gov.nara.

Background

The FHWA, in cooperation with the Kentucky Transportation Cabinet (KYTC), will prepare an Environmental Assessment to evaluate alternatives for a proposed highway project in the vicinity of Somerset, Kentucky. The proposed project is located in the south-central portion of Kentucky near and immediately north of Somerset in Pulaski County and would connect the Louis B. Nunn Parkway (Cumberland Parkway) at Fishing Creek to KY 80 east of Somerset.

As part of the National Environmental Policy Act (NEPA) process, FHWA will be preparing an EA to assess the social, economic, and environmental impacts of the proposed project. The EA will include a reasonable range of alternatives that will address the purpose and need of the project, as well as a no-build alternative. If the EA determines that an Environmental Impact Statement (EIS) is necessary for the proposed project, the information gained through the scoping process in this EA may be used as input to the scoping process for the development of that EIS. If an EIS is prepared in the future, additional written comments will still be considered at that time, after the filing of a Notice of Intent (NOI).

A Public Involvement Plan, including the development of a Citizens Advisory Council, has been established during the planning phase of this project and will facilitate public involvement throughout the project development process. The input of the resource agencies will be solicited throughout the life of this project. Throughout the development process, advance notice of the time and place of public meetings and/or hearings will be given in order to provide an opportunity for citizen attendance and comments.

The proposed project would service the Somerset area transportation needs by improving regional access, reducing existing and forecasted traffic congestion, and strengthening the regional highway network by improving connectivity to other major roads. This includes connecting the Louis B. Nunn (Cumberland) Parkway west of Somerset to KY 80 east of Somerset. While the project would serve the Somerset area, it could also link portions of the proposed Transamerica Transportation Corridor (I-66). This Transamerica Transportation Corridor included a “Southern Kentucky Corridor” centered on the cities of Pikeville, Jenkins, Hazard, London, Somerset, Columbia, Bowling Green, Hopkinsville, Benton and Paducah.

This I-66 Corridor was defined in an Interstate 66 Feasibility Study, and extends from the East Coast to the West Coast and generally is located between I-70 and I-40. This feasibility study focused on the feasibility of various alternative transportation concepts within that corridor. The report recognized that further analyzes could find that some individual segments of the Transamerica Transportation Corridor would be more feasible than others and would be more desirable from a state or regional perspective. The Interstate 66 Feasibility Study was funded through the 1991 U.S. Department of Transportation Appropriation Act.

The Southern Kentucky Corridor, Economic Justification & Financial Feasibility Study (dated May, 1997) followed the Interstate 66 Feasibility Study. Then in 2000, the I-66 Southern Kentucky Corridor Scoping Study (Pulaski-Laurel Counties) was completed. It developed an environmental footprint, gathered resource agency and public input, and identified areas of concern, as well as the potential benefits of such an undertaking within the Southern Kentucky Corridor. The Somerset Northern Bypass has been prioritized from study because of existing and future transportation needs in the Somerset area, including traffic congestion and regional access, and the linkage that it creates between existing facilities.

Letters describing the proposed action and soliciting comments will be sent to appropriate Federal, State, and local agencies, and to private organizations and citizens who have previously expressed or are known to have interest in this proposal. A series of public meetings will be held throughout the design process. In addition a public hearing will be held. Public notice will be given of the time and place of the meetings and hearing. The draft EA will be available for public and agency review and comment prior to the public hearing. Formal scoping will be planned for late spring 2002.

To ensure that the full range of issues related to this proposed action are addressed and all significant issues identified, comments and suggestions are invited from all interested parties. Comments or questions concerning this proposed action and the EA should be directed to the FHWA at the address provided under the caption FOR FURTHER INFORMATION CONTACT.

(Catalog of Federal Domestic Assistance Program Number 20.205, Highway Planning and Construction. The regulations implementing Executive Order 12372 regarding intergovernmental consultation on Federal programs and activities apply to this program.)

(23 U.S.C. 315; 49 CFR 1.48)

Issued on: April 22, 2002.
Evan J. Wisniewski.
Acting Kentucky Division Administrator.

[FR Doc. 02-10409 Filed 4-26-02; 8:45 am]

BILLING CODE 4910-22-M